ENVIRONMENTAL PROTECTION AGENCY

[EPA-R05-OAR-2019-0239; FRL-9998-02-Region 5]

Adequacy Status of the Columbus, Ohio Area for the Submitted 2015 Ozone Standard Maintenance Plan for Transportation Conformity Purposes

AGENCY: Environmental Protection Agency (EPA).

ACTION: Notice of finding of adequacy.

SUMMARY: In this notice, the EPA is notifying the public that we have found the motor vehicle emissions budgets (MVEBs) for volatile organic compounds (VOCs) and oxides of nitrogen (NOX) in the 2015 ozone National Ambient Air Quality Standard (NAAQS) maintenance plan for the Columbus, Ohio area (Delaware, Fairfield, Franklin, and Licking Counties) adequate for use in transportation conformity determinations under the Clean Air Act. On April 23, 2019, the Ohio Environmental Protection Agency (OEPA) submitted a 2015 ozone NAAQS maintenance plan for the Columbus area, which included VOC and NOX MVEBs for 2023 and 2030. As a result of our finding of adequacy, the MVEBs from the submitted maintenance plan must be used by state and Federal agencies in determining whether proposed transportation projects conform to the State Implementation Plan (SIP) as required by the Clean Air Act.

DATES: This finding is applicable August 29, 2019.

FOR FURTHER INFORMATION CONTACT: Anthony Maietta, Environmental Protection Specialist, Control Strategies Section (AR-18J), Air Programs Branch, Air and Radiation Division, United States Environmental Protection Agency, Region 5, 77 West Jackson Boulevard, Chicago, Illinois 60604, (312) 353-8777, maietta.anthony@epa.gov.

SUPPLEMENTARY INFORMATION: Throughout this document, whenever “we”, “us” or “our” is used, we mean EPA.

Background

Today's notice is an announcement of a finding that we have already made. On April 23, 2019, OEPA submitted to EPA a plan for maintaining the 2015 ozone NAAQS in the Columbus area. This plan included MVEBs for VOC and NOX for the years 2023 and 2030. On April 23, 2019, EPA sent a letter to OEPA transmitting our finding that the 2023 and 2030 MVEBs contained in the 2015 ozone NAAQS maintenance plan for the Columbus area are adequate for transportation conformity purposes. Receipt of these MVEBs was announced on EPA's transportation conformity website: https://www.epa.gov/state-and-local-transportation/adequacy-review-state-implementation-plan-sip-submissions-conformity. The finding and other relevant information are also available on EPA's transportation conformity website.

The 2023 MVEBs for the Columbus area are 29.28 tons per day (tpd) of NOX and 28.67 tpd of VOCs. The 2030 MVEBs for the Columbus area are 20.98 tpd of NOX and 22.03 tpd of VOCs.

Transportation conformity is required by section 176(c) of the Clean Air Act. EPA's conformity rule requires that transportation plans, programs, and projects conform to state air quality implementation plans and establishes the criteria and procedures for determining whether they conform. Conformity to a SIP means that transportation activities will not produce new air quality violations, worsen existing violations, or delay timely attainment of the NAAQS.

The criteria by which we determine whether a SIP's MVEBs are adequate for transportation conformity purposes are outlined in 40 CFR 93.118(e)(4). Please note that an adequacy review is separate from EPA's completeness review, and is also a separate action from EPA's evaluation of and decision whether to approve a proposed SIP revision.

Authority: 42 U.S.C. 7401-7671q.

Dated: July 30, 2019.
Cheryl L. Newton,
Acting Regional Administrator, Region 5.

[FR Doc. 2019-17348 Filed 8-13-19; 8:45 am]

BILLING CODE 6560-50-P